DEPARTMENT OF JUSTICE

Antitrust Division

Notice Pursuant to the National Cooperative Research and Production Act of 1993—National Floor Safety Institute

Notice is hereby given that, on May 22, 2008, pursuant to Section 6(a) of the National Cooperative Research and Production Act of 1993, 15 U.S.C. 4301 et seq. (“the Act”), National Floor Safety Institute (“NFSI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Floor Safety Institute, Southlake, TX. The nature and scope of NFSI's standards development activities are: Develop safety standards intended to provide preventative measures in all manner of pedestrian ambulatory safety in regards to slips, trips and falls.

Patricia A. Brink,
Deputy Director of Operations, Antitrust Division.

[FR Doc. E8-15554 Filed 7-10-08; 8:45 am]

BILLING CODE 4410-11-M